ENVIRONMENTAL PROTECTION AGENCY

[FRL 9946-65-OGC]

Intent To Grant a Co-Exclusive Patent License

AGENCY: Environmental Protection Agency (EPA).

ACTION: Notice of intent to grant a co-exclusive license; request for public comment.

SUMMARY: Pursuant to 35 U.S.C. 207 (Patents) and 37 CFR part 404 (U.S. Government patent licensing regulations), EPA hereby gives notice of its intent to grant an exclusive, royalty-bearing, revocable license to practice the invention described and claimed in the U.S. patent number 7,279,103 entitled, PROCESS FOR THE PURIFICATION OF ACIDIC METAL-BEARING WASTE WATERS TO PERMISSABLE DISCHARGE LEVELS WITH RECOVERY OF MARKETABLE METAL PRODUCTS, filed September 13, 2005 and issued October 9, 2007, to PRD Tech, Incorporated, Cincinnati, Ohio.

The proposed exclusive license will contain appropriate terms, limitations, and conditions to be negotiated in accordance with 35 U.S.C. 209 and 37 CFR 404.5 and 404.7 of the U.S. Government patent licensing regulations.

EPA will negotiate the final terms and conditions and grant the exclusive license, unless within 30 days from the date of this notice EPA receives, at the address below, written objections to the grant, together with supporting documentation. The documentation from objecting parties having an interest in practicing the above patent should include an application for an exclusive or nonexclusive license with the information set forth in 37 CFR 404.8.

The EPA Patent Attorney and other EPA officials will review all written responses and then make recommendations on a final decision to the Director or Deputy Director of the National Risk Management Research Laboratory who have been delegated the authority to issue patent licenses under EPA Delegation 1-55.

DATES: Comments must be received by June 20, 2016.

ADDRESSES: Submit your comments to Laura Scalise, Patent Attorney, Office of General Counsel (Mail Code 2377A), U.S. Environmental Protection Agency, 1200 Pennsylvania Ave. NW., Washington, DC 20460; telephone: (202) 564-8303; email address: scalise.laura@epa.gov.

FOR FURTHER INFORMATION CONTACT: Laura Scalise, Patent Attorney, Office of General Counsel (Mail Code 2377A), Environmental Protection Agency, Washington, DC 20460, telephone (202) 564-8303.

Dated: May 6, 2016.
Wendy Blake,
Associate General Counsel, General Law Office.

[FR Doc. 2016-11841 Filed 5-18-16; 8:45 am]

BILLING CODE 6560-50-P